DEPARTMENT OF COMMERCE

Foreign-Trade Zones Board

[S-155-2023]

Foreign-Trade Zone 29; Application for Subzone; BlueOval SK LLC; Glendale, Kentucky

An application has been submitted to the Foreign-Trade Zones (FTZ) Board by the Louisville & Jefferson County Riverport Authority, grantee of FTZ 29, requesting subzone status for the facility of BlueOval SK LLC, located in Glendale, Kentucky. The application was submitted pursuant to the provisions of the Foreign-Trade Zones Act, as amended (19 U.S.C. 81a-81u), and the regulations of the FTZ Board (15 CFR part 400). It was formally docketed on August 18, 2023.

The proposed subzone (1424.7 acres) is located at 2022 Battery Park Drive, Glendale, Kentucky. No authorization for production activity has been requested at this time. The proposed subzone would be subject to the existing activation limit of FTZ 29.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is October 2, 2023. Rebuttal comments in response to material submitted during the foregoing period may be submitted during the subsequent 15-day period to October 17, 2023.

A copy of the application will be available for public inspection in the “Online FTZ Information Section” section of the FTZ Board's website, which is accessible via www.trade.gov/ftz.

For further information, contact Juanita Chen at juanita.chen@trade.gov.

Dated: August 18, 2023.
Elizabeth Whiteman,
Executive Secretary.

[FR Doc. 2023-18163 Filed 8-22-23; 8:45 am]

BILLING CODE 3510-DS-P